AGENCY FOR INTERNATIONAL DEVELOPMENT

Privacy Act of 1974, System of Records

AGENCY: United States Agency for International Development.

ACTION: Notice to delete system of records.

SUMMARY: Pursuant to the Privacy Act of 1974 (U.S.C. 552a), as amended, the United States Agency for International Development (USAID) is deleting the AID-29 Deployment Tracking, system of records in its existing inventory.

DATES: This proposed action will be effective on December 22, 2012.

ADDRESSES: You may submit comments:

Paper Comments

• Fax: (703) 666-5670.

• Mail: Chief Privacy Officer, United States Agency for International Development, 2733 Crystal Drive, 11th Floor, Arlington, Va. 22202.

Electronic Comments

• Federal eRulemaking Portal: http://www.regulations.gov. Follow the instructions on the Web site for submitting comments.

• Email: privacy@usaid.gov.

FOR FURTHER INFORMATION CONTACT: For general questions, please contact, USAID Privacy Office, United States Agency for International Development, 2733 Crystal Drive, 11th Floor, Arlington, VA. 22202. Email: privacy@usaid.gov.

SUPPLEMENTARY INFORMATION: USAID has reviewed its Privacy Act systems of records. As a result of this review, USAID is deleting the AID-29 Deployment Tracking system of records because it was never activated.

Dated: November 1, 2012.
William Morgan,
Chief Information Security Officer—Chief Privacy Officer.

Deletion: AID-29

Deployment Tracking

Reason:

Based upon a review of AID-29, it has been determined that this system is not needed since the program was never activated.

Meredith Snee,

USAID Privacy Analyst.

[FR Doc. 2012-27243 Filed 11-6-12; 8:45 am]

BILLING CODE P